POSTAL SERVICE

39 CFR Part 111

Sender-Identified Mail: Enhanced Requirement for Discount Rate Mailings

AGENCY: Postal Service.

ACTION: Proposed rule; withdrawal.

SUMMARY: The proposal to require enhanced sender identification for all discount rate mailings published in the Federal Register on October 21, 2003 (Vol. 68, No. 203, pages 60052-60054), is withdrawn.

DATES: This notice is effective upon publication.

FOR FURTHER INFORMATION CONTACT: Joel Walker (703) 292-3652.

SUPPLEMENTARY INFORMATION: The Postal Service will issue a further notice regarding this proposal at a later date.

Neva R. Watson,
Attorney, Legislative, Office of Legal Policy and Ratemaking.

[FR Doc. 03-27466 Filed 10-30-03; 8:45 am]

BILLING CODE 7710-12-P